DEPARTMENT OF LABOR

Employment and Training Administration

[TA-W-37,047]

Marathon Ashland Pipe Line LLC Bridgeport, Illinois; Notice of Negative Determination Regarding Application for Reconsideration

By application dated December 16, 1999, a representative for one of the petitioners (herein after referred to as the petitioner) requested administrative reconsideration of the Department's negative determination regarding eligibility for workers of the subject firm to apply for worker adjustment assistance. The denial notice applicable to workers of Marathon Ashland Pipe Line LLC, transporting crude oil and petroleum products via pipeline in Bridgeport, Illinois, was signed on December 2, 1999 and published in the Federal Register on December 28, 1999 (64 FR 72691).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The denial of TAA for workers of Marathon Ashland Pipe Line LLC, Bridgeport, Illinois, was based on the finding that the workers provided a service and did not produce an article as required by Section 222(3) of the Trade Act of 1974, as amended.

The petitioner asserts that the workers in Bridgeport were gaugers for the subject firm and tested the oil before it could be transported into the pipeline. The petitioner also asserts that the crude oil acquisition department of Marathon Oil Company (the parent company of the subject firm) worked directly with and set the perimeters for the acceptance or rejection of the crude oil.

The 1988 Omnibus Trade and Competitiveness Act amendments to the Trade Act of 1974 extended coverage to service workers engaged in exploration and drilling for crude oil and natural gas. The same consideration cannot be given to those workers engaged in employment related to the transmission of crude oil or natural gas after drilling.

The petitioner also states that layoffs at the subject firm were caused by a reduced demand for services by the parent company.

Service workers may be certified for TAA only if there is a reduced demand for their services from a parent firm, a firm otherwise related to the subject firm by ownership, or a firm related by control. Although there have been TAA certifications for some Marathon Oil Company workers, the subject firm did not serve the locations under existing certification.

Findings in the initial investigation but not elaborated on in the decision document showed that worker separations were the result of the sale of the subject firm assets to another company.

Conclusion

After review of the application and investigative finds, I conclude that there has been no error or misinterpretation of the law or of the facts which would justify reconsideration of the Department of Labor's prior decision. Accordingly, the application is denied.

Signed at Washington, D.C. this 11th day of February 2000.
Grant D. Beale,
Program Manager, Division of Trade Adjustment Assistance.

[FR Doc. 00-4131 Filed 2-18-00; 8:45 am]

BILLING CODE 4510-30-M